DEPARTMENT OF ENERGY

Federal Energy Regulatory Commission

[Docket Nos. CP17-66-001, CP17-67-001]

Venture Global Plaquemines LNG, LLC; Gator Express Pipeline, LLC; Notice of Scoping Period Requesting Comments on Environmental Issues and Notice of Schedule for the Preparation of an Environmental Assessment for the Proposed Plaquemines LNG Amendment

The staff of the Federal Energy Regulatory Commission (FERC or Commission) will prepare an environmental assessment (EA), that will discuss the environmental impacts of the Venture Global Plaquemines LNG, LLC (Plaquemines LNG) Amendment (Amendment). If authorized, the Amendment would allow additional workspace (a parking/laydown area) and increase both the traffic volume and work week/hour limits associated with the construction of its terminal in Plaquemines Parish, Louisiana from that analyzed in the final Environmental Impact Statement for the Plaquemines LNG Project (Docket Nos. CP17-66-000 and CP17-67-000), which the Commission authorized on September 30, 2019. The proposed Amendment would increase construction to 24 hours per day and 7 days a week for select activities at the Plaquemines LNG Terminal. The Commission will use the EA in its decision-making process to determine whether the Amendment is in the public interest.

This notice announces the opening of the scoping process the Commission will use to gather input from the public and interested agencies regarding the Amendment. As part of the National Environmental Policy Act (NEPA) review process, the Commission takes into account concerns the public may have about proposals and the environmental impacts that could result from its action whenever it considers the issuance of an authorization. This gathering of public input is referred to as “scoping.” The main goal of the scoping process is to focus the analysis in the EA on the important environmental issues. Additional information about the Commission's NEPA process is described below in the NEPA Process section of this notice.

By this notice, the Commission requests public comments on the scope of issues to address in the EA. To ensure that your comments are timely and properly recorded, please submit your comments so that the Commission receives them in Washington, DC on or before 5:00 p.m. Eastern Time on March 6, 2023. Comments may be submitted in written form. Further details on how to submit comments are provided in the Public Participation section of this notice.

Your comments should focus on the potential environmental effects, reasonable alternatives, and measures to avoid or lessen environmental impacts. Your input will help the Commission staff determine what issues they need to evaluate in the EA. Commission staff will consider all written comments during the preparation of the EA.

This notice is being sent to the Commission's current environmental mailing list for this Amendment. State and local government representatives should notify their constituents of this proposed Amendment and encourage them to comment on their areas of concern.

Public Participation

There are three methods you can use to submit your comments to the Commission. Please carefully follow these instructions so that your comments are properly recorded. The Commission encourages electronic filing of comments and has staff available to assist you at (866) 208-3676 or FercOnlineSupport@ferc.gov.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP17-66-001) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The FERC website (www.ferc.gov) includes additional information on how to participate in the Commission's proceedings along with other stakeholder topics of interest under the Natural Gas, Landowner Topics link. The Commission also offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

Summary of the Proposed Amendment

Plaquemines LNG proposes to increase the peak workforce from its current 3,600 personnel up to 6,000 personnel per day, increase traffic volumes, and implement a 24-hours-per-day, 7-days-per-week construction schedule for select activities. In addition, Plaquemines LNG is seeking approval for an additional 50-acre parking/laydown area referred to as the State Highway (SH) 23 Yard. Plaquemines LNG indicates that the SH23 Yard is required to accommodate the parking and laydown needs associated with the increase in construction workforce. Plaquemines LNG anticipates completing the Plaquemines LNG Project in 2025.¹

¹ On October 20, 2022, pursuant to Environmental Condition No. 1 of the Authorization Order, Plaquemines LNG requested a variance to extend the nighttime construction activities evaluated in the Final Environmental Impact Statement (FERC, 2019) for a 12-month period (FERC Accession No. 20221020-5080). This variance is pending before the Commission and will be addressed in the Amendment EA.

The general location of the Plaquemines LNG Project facilities is shown in appendix 1.²

² The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Land Requirements for Construction

The request does not involve the construction of any new facilities nor any modification of the previously authorized facilities at the Plaquemines LNG Terminal site. New land requirements would be limited to the 50-acre parking/laydown area at the proposed SH23 Yard. The proposed scope of work for site development includes the placement of fill material to raise the SH23 Yard by 4 feet and application of crushed stone or gravel to facilitate parking. The SH23 Yard would also require new driveway connections to SH23.

NEPA Process

The EA issued by the Commission will discuss impacts that could occur as a result of the proposed Amendment under the relevant general resource areas:

• geology and soils;

• water resources and wetlands;

• vegetation and wildlife;

• threatened and endangered species;

• cultural resources;

• land use and visual resources;

• socioeconomics and traffic;

• environmental justice; and

• air quality and noise.

Commission staff will also evaluate reasonable alternatives to the proposed Amendment or portions of the Amendment and make recommendations on how to lessen or avoid impacts on the various resource areas. Your comments will help Commission staff identify and focus on the issues that might have an effect on the human environment and potentially eliminate others from further study and discussion in the EA.

Following this scoping period, Commission staff will prepare an EA to present Commission staff's independent analysis of the issues. The EA may be issued for an allotted public comment period. The Commission would consider timely comments on the EA before making its decision regarding the proposed Amendment. The EA will be available in electronic format in the public record through eLibrary ³ and the Commission's natural gas environmental documents web page (https://www.ferc.gov/industries-data/natural-gas/environment/environmental-documents). If eSubscribed, you will receive instant email notification when the environmental document is issued.

³ For instructions on connecting to eLibrary, refer to the last page of this notice.

With this notice, the Commission is asking agencies with jurisdiction by law and/or special expertise with respect to the environmental issues of this Amendment to formally cooperate in the preparation of the EA.⁴ Agencies that would like to request cooperating agency status should follow the instructions for filing comments provided under the Public Participation section of this notice.

⁴ The Council on Environmental Quality regulations addressing cooperating agency responsibilities are at Title 40, Code of Federal Regulations, Section 1501.8.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the Amendment's potential effects on historic properties.⁵ The EA for this Amendment will document findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Schedule for Environmental Review

On January 6, 2023, the Commission issued its Notice of Application for the Amendment. Among other things, that notice alerted agencies issuing federal authorizations of the requirement to complete all necessary reviews and to reach a final decision on a request for a federal authorization within 90 days of the date of issuance of the Commission staff's environmental document for the Amendment.

This notice identifies Commission staff's intention to prepare an EA for the Amendment and the planned schedule for the completion of the environmental review.⁶

⁶ 40 CFR 1501.10 (2020).

Issuance of EA—May 19, 2023

90-day Federal Authorization Decision Deadline ⁷—August 17, 2023

⁷ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Amendment's progress.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the Amendment and includes a mailing address with their comments. Commission staff will update the environmental mailing list as the analysis proceeds to ensure that Commission notices related to this environmental review are sent to all individuals, organizations, and government entities interested in and/or potentially affected by the proposed Amendment.

If you need to make changes to your name/address, or if you would like to remove your name from the mailing list, please complete one of the following steps:

(1) Send an email to GasProjectAddressChange@ferc.gov stating your request. You must include the docket number CP17-66-001 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Amendment is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: February 2, 2023.
Kimberly D. Bose,
Secretary.

BILLING CODE 6717-01-P

Appendix 1

Appendix 2

[FR Doc. 2023-02639 Filed 2-7-23; 8:45 am]

BILLING CODE 6717-01-C